CONSUMER PRODUCT SAFETY COMMISSION

Sunshine Act Meetings

AGENCY: U.S. Consumer Product Safety Commission.

FEDERAL REGISTER CITATION OF PREVIOUS ANNOUNCEMENT: Vol. 75, No. 128, Tuesday, July 6, 2010, page 38791.

PREVIOUSLY ANNOUNCED TIME AND DATE OF MEETING: 10 a.m.-12:30 p.m., Wednesday July 7, 2010.

CHANGES IN MEETING: Agenda Item on Interim Policy and Partial Lifting of the Stay on Component Testing and Certification of Children's Toys and Child Care Articles to the Phthalates Limits is postponed to July 14, 2010, 10 a.m.-12 noon.

For a recorded message containing the latest agenda information, call (301) 504-7948.

CONTACT PERSON FOR ADDITIONAL INFORMATION: Todd A. Stevenson, Office of the Secretary, 4330 East West Highway, Bethesda, MD 20814 (301) 504-7923.

Dated: July 6, 2010.
Todd A. Stevenson,
Secretary.

[FR Doc. 2010-16814 Filed 7-6-10; 4:15 pm]

BILLING CODE 6355-01-P